DEPARTMENT OF COMMERCE

National Oceanic and Atmospheric Administration

Agency Information Collection Activities; Submission to the Office of Management and Budget (OMB) for Review and Approval; Comment Request; Understanding the Human Response to Water Hazards: A Social Network Analysis

AGENCY: National Oceanic & Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before January 23, 2024.

ADDRESSES: Interested persons are invited to submit written comments to Adrienne Thomas, NOAA PRA Officer, at NOAA.PRA@noaa.gov. Do not submit Confidential Business Information or otherwise sensitive or protected information.

FOR FURTHER INFORMATION CONTACT: Requests for additional information or specific questions related to collection activities should be directed to Ji Sun Lee, Director, Social, Behavioral, & Economic Sciences Program, National Weather Service, 1325 East West Highway, Silver Spring, MD 20910, 301-349-6175, and jisun.lee@noaa.gov.

SUPPLEMENTARY INFORMATION:

I. Abstract

This is a request for a new collection of information. The Social, Behavioral, and Economic Sciences Program (SBES) in the Office of Science and Technology Integration for the National Weather Service (NWS) is sponsoring this data collection effort.

Under the Bipartisan Infrastructure Law, the NWS SBES Program was provided funding to better understand the human responses to water hazard services and products. This project seeks to understand and mitigate flooding outcomes for riverine communities, especially those that rank high on the Centers for Disease Control's (CDC's) Social Vulnerability Index (SVI), by conducting a Social Network Analysis (SNA) to study how stakeholders within 2 selected communities, Roanoke, Virginia and Greenbrier County, West Virginia. Based on interviews with local government leaders and faith/community-based organizations (FCBOs) along with a survey of residents, the resulting SNA will map how messages are created and distributed, how they are accessed and understood, and how the information affects the decisions of emergency and water resource managers, first responders, community partners, and the general public as they prepare for, respond to, and recover from flooding events. While the NWS possesses some anecdotal knowledge of the dissemination and use of flood forecasts, a more complete accounting and formal analysis of the individuals and groups within these networks are needed. Ideally, the findings from the SNA in relation to the water hazard products and services will not only improve the NWS's understanding of who the stakeholders are, but also how they use the information provided and what they believe are the benefits for their constituents.

The primary driver for this project comes from the direction of NOAA leadership to develop a social behavioral infrastructure with data that supports the NWS in providing equitable service delivery for all of its products and services. Based on H.R.3684 Infrastructure Investment and Jobs Act (IIJA), Provision 3: funding shall be used for coastal and inland flood and inundation mapping and forecasting, next-generation water modeling activities such as modernized precipitation frequency and probable maximum studies, and transformative foundational social science research that build infrastructure and supports equitable service delivery to all communities. This project also aligns with Goal 3 of the NWS Strategic Plan to transform our Agency to meet current and future needs of society by (3.6) delivering actionable inland and coastal water resource and inundation information across all time scales to address the growing risk of flooding, drought, and low water flow as well as immediate and long range water management and planning; and by (3.8) understanding and applying the best social, behavioral, and economic sciences to clearly communicate information with communities in multiple languages and deliver equitable service for those historically underserved and socially vulnerable to attain the desired response to high impact events.

Semi-structured interviews will be utilized to collect information from state and local government leaders, as well as FCBO leaders. A survey will be provided to residents of both communities, along with an in-person intercept survey provided to residents of Greenbrier County based on interviews with the FCBO leaders.

The SNA maps derived from the data collected will be utilized by the following NWS offices:

• Community Engagement Program to support outreach and engagement activities with specific groups and the organizations that serve these populations.

• The Decision Support Integration Branch of the Analyze, Forecast, and Support Office to help them identify and recruit organizations, businesses, and individuals who may be well poised to become Weather-Ready Ambassadors. The raw data collected will be used by:

• The Social, Behavioral, and Economic Sciences (SBES) Program in the Office of Science and Technology Integration in developing an Agent Based Model (ABM) that can demonstrate, describe, and potentially anticipate evacuation and mobility behaviors within a prescribed system for inland flooding events. If possible, the application of an ABM will support the development of mitigation efforts that stakeholders can test to understand how the actions of specific agents within a system could possibly alter outcomes of flooding events for a community.

II. Method of Collection

The semi-structured interviews will be conducted, either face-to-face or via video conferencing technology based on schedules and participant preference. The survey responses will be collected via a web platform called REDCap, while the intercept surveys will be fielded by the contractor and conducted face-to-face during invited community events.

III. Data

OMB Control Number: 0648-XXXX.

Form Number(s): None.

Type of Review: Regular submission, new information collection.

Affected Public: Local government, Not-for profit, and individuals or households.

Estimated Number of Respondents: 790.

Estimated Time per Response: Semi-structured interviews: 1 hour; Survey: 15 minutes.

Estimated Total Annual Burden Hours: 227.50 hours.

Estimated Total Annual Cost to Public: $6744.40.

Respondent's Obligation: Voluntary.

Legal Authority: H.R.3684 Infrastructure Investment and Jobs Act (IIJA), Provision 3: funding shall be used for coastal and inland flood and inundation mapping and forecasting, next-generation water modeling activities such as modernized precipitation frequency and probable maximum studies, and transformative foundational social science research that build infrastructure and supports equitable service delivery to all communities.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Under Secretary for Economic Affairs, Commerce Department.

[FR Doc. 2023-25977 Filed 11-22-23; 8:45 am]

BILLING CODE 3510-KE-P